ENVIRONMENTAL PROTECTION AGENCY

40 CFR Part 52

[EPA-R02-OAR-2024-0288; FRL-12047-02-R2]

Air Plan Approval; New Jersey; Northern New Jersey and Southern New Jersey Counties' Second 10-Year Limited Maintenance Plan for the 2006 24-Hour PM2.5 Standard

AGENCY: Environmental Protection Agency (EPA).

ACTION: Final rule.

SUMMARY: The Environmental Protection Agency (EPA) is approving the limited maintenance plan (LMP) for the 2006 PM2.5 national ambient air quality standard (NAAQS) for the New Jersey portion of both of New Jersey's multi-state maintenance areas: the Northern New Jersey portion of the New York-Northern New Jersey-Long Island, NY-NJ-CT (Northern New Jersey) maintenance area and the New Jersey portion of the Philadelphia-Wilmington, PA-NJ-DE (Southern New Jersey) maintenance area. This LMP was submitted on July 6, 2023, and supplemented on June 6, 2024, by the New Jersey Department of Environmental Protection (NJDEP). The plan addresses the second 10-year maintenance period for particulate matter with an aerodynamic diameter less than or equal to a nominal 2.5 micrometers, known as PM2.5. This action is being taken in accordance with the requirements of the Clean Air Act (CAA). The EPA is approving New Jersey's LMP submission for the Northern New Jersey and Southern New Jersey maintenance areas because it provides for the maintenance of the 2006 24-hour PM2.5 NAAQS through the end of the second 10-year portion of the maintenance period. In addition, the EPA finds adequate and is approving the LMP because it meets the appropriate transportation conformity requirements. EPA proposed to approve this action on July 31, 2025.

DATES: This final rule is effective on December 18, 2025.

ADDRESSES: Submit your comments, identified by Docket ID No. EPA-R02-OAR-2024-0288 at https://www.regulations.gov. Although listed in the index, some information is not publicly available, e.g., Controlled Unclassified Information (CUI) (formerly referred to as Confidential Business Information (CBI)) or other information whose disclosure is restricted by statute. Certain other material, such as copyrighted material, is not placed on the internet and will be publicly available only in hard copy form. Publicly available docket materials are available electronically through https://www.regulations.gov.

FOR FURTHER INFORMATION CONTACT: Ysabel Banon, Environmental Protection Agency, Air Programs Branch, Region 2, 290 Broadway, New York, New York 10007-1866, telephone number: (212) 637-3382, email address: banon.ysabel@epa.gov.

SUPPLEMENTARY INFORMATION:

Table of Contents

I. Background and Purpose

II. Response to Comments

III. Final Action

IV. Statutory and Executive Order Reviews

I. Background and Purpose

Hereafter, “Northern New Jersey” means the New Jersey portion of the New York-Northern New Jersey-Long Island, NY-NJ-CT maintenance area (for the 2006 24-hour PM2.5 NAAQS), which is comprised of Bergen, Essex, Hudson, Mercer, Middlesex, Monmouth, Morris, Passaic, Somerset, and Union Counties, and “Southern New Jersey” means the New Jersey portion of the Philadelphia-Wilmington, PA-NJ-DE maintenance area (for the 2006 24-hour PM2.5 NAAQS), which is comprised of Burlington, Camden, and Gloucester Counties. On December 14, 2009, EPA designated the Northern New Jersey and Southern New Jersey areas as nonattainment for the 2006 PM2.5 NAAQS (74 FR 58688). Subsequently, on September 4, 2013, EPA redesignated the Northern New Jersey and Southern New Jersey areas to attainment for the 2006 PM2.5 NAAQS (78 FR 54396) and approved the associated maintenance plan into the New Jersey State Implementation Plan (SIP).

On July 31, 2025, EPA published a Notice of Proposed Rulemaking (NPRM) for the State of New Jersey (90 FR 35996). The NPRM proposed approval of the State's second, 10-year LMP for the 2006 24-hour PM2.5 standard for the Northern New Jersey and Southern New Jersey areas. The formal SIP revision was submitted by NJDEP on July 6, 2023, and supplemented on June 6, 2024. EPA is approving the plan because it meets all applicable requirements under CAA sections 110 and 175A. We also find the LMP to be adequate as it pertains to transportation conformity requirements. Other specific requirements of the LMP and the rationale for EPA's action are explained in the NPRM and will not be restated here. One public comment was received on the NPRM.

II. Response to Comments

In response to the EPA's July 31, 2025, proposed rulemaking on the NJDEP SIP revision submittal, the EPA received one comment during the 30-day public comment period. The comment period ended on September 2, 2025. After reviewing the comment, the EPA has determined that the comment is outside the scope of our proposed action or fails to identify any material issue necessitating a response. The comment does not raise issues germane to the EPA's proposed action. Therefore, we are finalizing our action as proposed. The specific comment may be viewed under Docket ID No. EPA-R02-OAR-2024-0288 on the https://www.regulations.gov website.

III. Final Action

EPA is approving the New Jersey's LMP for the Northern New Jersey and Southern New Jersey areas for the 2006 24-hour PM2.5 NAAQS as a revision to the New Jersey SIP submitted on July 6, 2023, and supplemented on June 6, 2024. EPA's review of the air quality data for the maintenance area indicates that the State continues to show attainment well below the level of the 2006 PM2.5 NAAQS and that NJDEP's LMP meets all the LMP qualifying criteria set forth in the “Guidance on Limited Maintenance Plan Option for Moderate PM2.5 Nonattainment Areas and PM2.5 Maintenance Areas.” ¹ EPA's approval of this LMP will satisfy the CAA section 175A requirements for the second 10-year period for the Northern New Jersey and Southern New Jersey maintenance areas. EPA also finds the LMP to be adequate as it pertains to transportation conformity requirements.

¹ The guidance document developed by the Office of Air Quality Planning and Standards and the Office of Transportation and Air Quality, within the Office of Air and Radiation, titled “Guidance on the Limited Maintenance Plan Option for Moderate PM2.5 Nonattainment Areas and PM2.5 Maintenance Areas,” can be found at https://nepis.epa.gov/Exe/ZyPDF.cgi?Dockey=P1015UL4.pdf.

IV. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act (CRA), and EPA will submit a rule report to each House of the Congress and to the Comptroller General of the United States. This action is not a “major rule” as defined by 5 U.S.C. 804(2).

Under section 307(b)(1) of the CAA, petitions for judicial review of this action must be filed in the United States Court of Appeals for the appropriate circuit by January 20, 2026. Filing a petition for reconsideration by the Administrator of this final rule does not affect the finality of this action for the purposes of judicial review, nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Particulate matter, Reporting and recordkeeping requirements.

Authority: 42 U.S.C. 7401 et seq.

Michael Martucci,
Regional Administrator, Region 2.

For the reasons set forth in the preamble, EPA amends 40 CFR part 52 as follows:

PART 52—APPROVAL AND PROMULGATION OF IMPLEMENTATION PLANS

1. The authority citation for part 52 continues to read as follows:

Authority: 42 U.S.C. 7401 et seq.

Subpart FF—New Jersey

2. In § 52.1570, the table in paragraph (e) is amended by adding the entries “NJ second 10-year limited maintenance plan SIP for the 2006 24-hour PM2.5 NAAQS” and “2017 attainment year emissions inventory for directly emitted PM2.5 and associated precursors emissions for NOx, VOC, NH3, and SO2” at the end of the table to read as follows:

§ 52.1570 Identification of plan.

* * * * *

(e) * * *

EPA-Approved New Jersey Nonregulatory and Quasi-Regulatory Provisions
SIP element | Applicable geographic or nonattainment area | New Jersey submittal date | EPA approval date | Explanation
* * * * * * *
NJ second 10-year limited maintenance plan SIP for the 2006 24-hour PM2.5 NAAQS | New Jersey portion of the New York-Northern New Jersey-Long Island, NY-NJ-CT and the New Jersey portion of the Philadelphia-Wilmington, PA-NJ-DE, PM2.5 nonattainment areas | July 6, 2023, and supplemented on June 6, 2024 | 11/18/2025, 90 FR [insert Federal Register page where the document begins] | • Full approval.
2017 attainment year emissions inventory for directly emitted PM2.5 and associated precursors emissions for NOX, VOC, NH3, and SO2 | New Jersey portion of the New York-Northern New Jersey-Long Island, NY-NJ-CT and the New Jersey portion of the Philadelphia-Wilmington, PA-NJ-DE, PM2.5 nonattainment areas | July 6, 2023, and supplemented on June 6, 2024 | 11/18/2025, 90 FR [insert Federal Register page where the document begins] | • Full approval. • The inventory contains point, area, fugitive road dust, nonroad, on-road and fires source data.

3. In § 52.1602, add paragraphs (i) and (j) to read as follows:

§ 52.1602 Control strategy and regulations: PM2.5.

* * * * *

(i) Approval—The maintenance plan submitted on July 6, 2023, and supplemented on June 6, 2024, for the 2006 p.m.2.5 National Ambient Air Quality Standard for the New Jersey portion of the New York-Northern New Jersey-Long Island, NY-NJ-CT, PM2.5 maintenance area and the New Jersey portion of the Philadelphia-Wilmington, PA-NJ-DE, PM2.5 maintenance area has been approved.

(j) Approval—The 2017 attainment year emissions inventory for the New Jersey portions of the New York-Northern New Jersey-Long Island, NY-NJ-CT, PM2.5 maintenance area and the Philadelphia-Wilmington, PA-NJ-DE, PM2.5 maintenance area consisting of NOX, VOC, NH3, directly emitted PM2.5, and SO2 emissions. This inventory satisfies the comprehensive emission inventory requirements of the Clean Air Act section 172(c)(3).

[FR Doc. 2025-20194 Filed 11-17-25; 8:45 am]

BILLING CODE 6560-50-P